DEPARTMENT OF LABOR

Employment and Training Administration

[TA-W-59,065]

Paris Accessories, Inc.; Walnutport, PA; Certification Regarding Eligibility To Apply for Worker Adjustment Assistance and Alternative Trade Adjustment Assistance

In accordance with section 223 of the Trade Act of 1974, as amended (19 U.S.C. 2273), the Department of Labor herein presents the results of an investigation regarding certification of eligibility to apply for worker adjustment assistance.

In order to make an affirmative determination and issue a certification of eligibility to apply for Trade Adjustment Assistance, the group eligibility requirements in either paragraph (a)(2)(A) or (a)(2)(B) of section 222 of the Trade Act must be met. It is determined in this case that the requirements of (a)(2)(B) of section 222 have been met.

The investigation was initiated on March 21, 2006 in response to a petition filed by a union official on behalf of workers at Paris Accessories, Inc., Walnutport, Pennsylvania. The workers were engaged in the production of knit dickies, knit hats, ski band and ski masks.

Employment at the subject plant has declined, and the subject firm has shifted the production of knit dickies, knit hats, ski band and ski masks to a country (Mexico) that is a party to a Free Trade Agreement and the Dominican Republic, a beneficiary country under the Caribbean Basin Economic Recovery Act with the United States.

Paris Accessories, Inc., Walnutport, Pennsylvania workers were previously certified (TA-W-54,465) for trade adjustment assistance. That certification expires on April 21, 2006.

In addition, in order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the facts obtained in the investigation, I conclude that there was a shift in production from the workers firm or subdivision to Mexico and Dominican Republic of articles that are like or directly competitive with those produced by the subject firm or subdivision. In accordance with the provisions of the Act, I make the following certification:

“All workers at Paris Accessories, Inc., Walnutport, Pennsylvania, who became totally or partially separated from employment on or after April 22, 2006 through two years from the date of certification are eligible to apply for adjustment assistance under Section 223 of the Trade Act of 1974, and are also eligible to apply for alternative trade adjustment assistance under Section 246 of the Trade Act of 1974.”

Signed in Washington, DC this 7th day of April, 2006.
Elliott S. Kushner,
Certifying Officer, Division of Trade Adjustment Assistance.

[FR Doc. E6-6409 Filed 4-27-06; 8:45 am]

BILLING CODE 4510-30-P